SECURITIES AND EXCHANGE COMMISSION

[Release No. 34-103463; File Nos. SR-NYSE-2025-17; SR-NYSEAMER-2025-28; SR-NYSEARCA-2025-35; SR-NYSETEX-2025-07; SR-NYSENAT-2025-10]

Self-Regulatory Organizations; New York Stock Exchange LLC; NYSE American LLC; NYSE Arca, Inc.; NYSE Texas, Inc.; NYSE National, Inc.; Notice of Designation of a Longer Period for Commission Action on Proposed Rule Changes To Amend the Connectivity Fee Schedule To Add Hardware Procurement and Managed Services

July 15, 2025.

On May 13, 2025, New York Stock Exchange LLC, NYSE American LLC, NYSE Arca, Inc., NYSE Texas, Inc., and NYSE National, Inc. (“Exchanges”) each filed with the Securities and Exchange Commission (“Commission”), pursuant to Section 19(b)(1) of the Securities Exchange Act of 1934 (“Act”) ¹ and Rule 19b-4 thereunder,² a proposed rule change to amend the connectivity fee schedule to add and establish fees for hardware procurement services and managed services in the colocation halls at the Mahwah Data Center. The proposed rule changes were published for comment in the Federal Register on June 2, 2025.³ The Commission has not received any comments on the proposed rule changes.

¹ 15 U.S.C. 78s(b)(1).

² 17 CFR 240.19b-4.

³ See Securities Exchange Act Release Nos. 103129 (May 27, 2025), 90 FR 23393 (SR-NYSE-2025-17); 103125 (May 27, 2025), 90 FR 23387 (SR-NYSEAMER-2025-28); 103126 (May 27, 2025), 90 FR 23401 (SR-NYSEARCA-2025-35); 103128 (May 27, 2025), 90 FR 23391 (SR-NYSETEX-2025-07); 103127 (May 27, 2025), 90 FR 23409 (SR-NYSENAT-2025-10).

Section 19(b)(2) of the Act ⁴ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule changes should be disapproved. The 45th day after publication of the notices for these proposed rule changes is July 17, 2025. The Commission is extending this 45-day time period.

⁴ 15 U.S.C. 78s(b)(2).

The Commission finds it appropriate to designate a longer period within which to take action on the proposed rule changes so that it has sufficient time to consider the proposed rule changes. Accordingly, the Commission, pursuant to Section 19(b)(2) of the Act,⁵ designates August 31, 2025, as the date by which the Commission shall either approve or disapprove, or institute proceedings to determine whether to disapprove, the proposed rule changes (File Nos. SR-NYSE-2025-17; SR-NYSEAMER-2025-28; SR-NYSEARCA-2025-35; SR-NYSETEX-2025-07; SR-NYSENAT-2025-10).

⁵ Id.

For the Commission, by the Division of Trading and Markets, pursuant to delegated authority.⁶
⁶ 17 CFR 200.30-3(a)(31).
Sherry R. Haywood,
Assistant Secretary.

[FR Doc. 2025-13471 Filed 7-17-25; 8:45 am]

BILLING CODE 8011-01-P